DEPARTMENT OF COMMERCE

National Oceanic and Atmospheric Administration

RIN 0648-XG474

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit application contains all of the required information and warrants further consideration. This Exempted Fishing Permit would exempt one commercial fishing vessel, which is authorized to fish in the yellowtail flounder fishery in international waters regulated by the Northwest Atlantic Fisheries Organization, from Northeast multispecies fishery minimum fish size regulations. The purpose of the Exempted Fishing Permit is to support a study to determine equivalent length and weight ratios from legal-sized, whole, fish to dressed, headed and gutted fish caught in the Northwest Atlantic Fisheries Organization yellowtail flounder fishery, and to the extent possible, the effect of the exemption on the marketplace. The only other U.S. vessel authorized to fish in the Northwest Atlantic Fisheries Organization yellowtail fishery may request, and be approved, to fish under this same EFP.

Regulations under the Magnuson-Stevens Fishery Conservation and Management Act require publication of this notification to provide interested parties the opportunity to comment on applications for proposed Exempted Fishing Permits.

DATES: Comments must be received on or before October 9, 2018.

ADDRESSES: You may submit written comments by any of the following methods:

• Email: nmfs.gar.efp@noaa.gov. Include in the subject line “DA18-059 NAFO EFP.”

• Mail: Michael Pentony, Regional Administrator, NMFS, Greater Atlantic Regional Fisheries Office, 55 Great Republic Drive, Gloucester, MA 01930. Mark the outside of the envelope “DA18-059 NAFO EFP.”

FOR FURTHER INFORMATION CONTACT: Shannah Jaburek, Fishery Management Specialist, 978-282-8456.

SUPPLEMENTARY INFORMATION: Tremont Fisheries, LLC, submitted an exempted fishing permit (EFP) application that would authorize the company's fishing vessel to land dressed fish (headed and gutted) that do not meet the minimum fish size requirements specified for Northeast multispecies fish as defined in federal regulations. These regulations prohibit the possession of any fish, including parts of fish, that do not meet certain minimum fish sizes (50 CFR 648.83(a)(2)). Consequently, U.S. vessels participating in the Northwest Atlantic Fisheries Organization (NAFO) fishery that transit the U. S. Exclusive Economic Zone are subject to a minimum size larger than what NAFO requires and which essentially precludes any dressing of the caught fish through heading and gutting. In addition, because the NAFO fishery for groundfish is a frozen fish fishery, they are relegated to freezing whole fish in order to meet U.S. minimum size requirements, which have less value and a weaker market when compared with frozen dressed fish from foreign markets not subject to U.S. minimum size requirements. These other frozen dressed fish markets are currently occupied by foreign fish processing firms, which are able to harvest a smaller minimum size than the U.S. domestic fishery. Moreover, requiring U.S. vessels in NAFO waters to adhere to the U.S. minimum size even for dressed fish can result in U.S. vessels discarding more fish which is inconsistent with NAFO's objectives to reduce unnecessary discards. The EFP applicant is proposing to use the NAFO minimum sizes (Table 1) for landed fish, to determine appropriate weight conversion factors between whole and dressed fish that have been headed and gutted, and to see, to the extent possible, how this may affect the market for these fish. For any fish that do not have NAFO minimum size restrictions, the applicant would also find length conversion factors between whole fish and headed and gutted fish.

This would enable the vessel to bring in a higher quality and more valuable dressed product. The primary focus of the fishery is yellowtail flounder; however, the vessel is able to retain and land small amounts of American plaice and Atlantic cod as incidental catch.

Vessels permitted to fish under this EFP would conduct fishing operations upon issuance of the EFP through December 31, 2018. All fishing gear would need to be compliant with the NAFO Conservation and Enforcement measures. The vessel would conduct 2 to 3 trips that are approximately 24 days long, completing approximately 70 tows per trip. The applicant has been authorized to fish for yellowtail flounder with an allocation 500 mt of yellowtail flounder to catch within the NAFO RA for the 2018 fishing year. However, NMFS reserves the right to reallocate quota if either of the two vessels allocated NAFO yellowtail flounder quota for 2018 are unable to harvest its allocation. This could allow a vessel under this EFP to land more than its initial allocation. Any other kept catch would be subject to requirements outlined by NAFO (Table 2). Catch would be sorted by species, headed, gutted, and cleaned, and then separated by market category. The trays would then be frozen, bagged, labeled, and placed into the vessel's freezer hold.

Table 2—Incidental Retention Limits in the NAFO Regulatory Area
Species | NAFO division(s) | Incidental retention limits
Cod | 3LM | 1,250 kg or 5% of total catch retained.
| 3NO | 1,000 kg or 4% of total catch retained.
Redfish | 3LN | 1,250 kg or 5% of total catch retained.
| 1F, 2, 3O, and 3K | 2,500 kg or 10% of total catch retained. 1,250 kg or 5% of total catch retained when “others” quota is caught.
American Plaice | 3LMNO | While conducting directed fishing for yellowtail, 15% of yellowtail retained.
Witch Flounder | 3LNO | 1,250 kg or 5% of total catch retained.
White Hake | 3NO | 2,500 kg or 10% of total catch retained. 1,250 kg or 5% of total catch retained when “others” quota is caught.
Capelin | 3NO | 1,250 kg or 5% of total catch retained.
Skates | 3LNO | 2,500 kg or 10% of total catch retained. 1,250 kg or 5% of total catch retained when “others” quota is caught.
Greenland Halibut | 3LMNO | 2,500 kg or 10% of total catch retained.

NAFO fishing trips require 100-percent observer coverage. All catch that comes onboard the vessel would be identified and quantified following NAFO protocols by the fisheries observer. In order to determine a weight ratio from legal-sized, whole fish to processed fish, the observer would weigh a basket of whole fish, send those fish through the processing area, and weigh those same fish post processing. Processing of other fish would be halted during this time to ensure that the sample stays intact. This would happen throughout the trip at random intervals to ensure unbiased sampling. The observer would also collect fish lengths for species without minimum sizes to determine the ratio of whole-fish length to headed and gutted length. The observer would randomly measure individual fish throughout the trip and then measure them again post processing. The observer would then record the dressed length along with the whole length. At a minimum the observer would weigh 50 baskets and obtain 50 length measurements of any species that is processed. All observer data would be sent to NMFS for an independent analysis of the data to determine the ratios. The applicant would share economic and market data with NMFS Fisheries to inform the value added from landing dressed fish.

The NAFO yellowtail flounder fishery, although the same species, is a separate stock from the stock found domestically. Allowing the vessel to harvest fish using the NAFO minimum sizes enables the United States to be better stewards of the NAFO resource by reducing discards that meet the NAFO size standards but are below the domestic minimum size. Landing the dressed fish, even at sizes less than the domestic minimum size, therefore, would not appear to put the applicant at a competitive advantage over domestic fishers because its processed fish are largely intended for the frozen market currently dominated by foreign interests. This EFP, if granted, would help validate these expectations. This EFP is necessary to allow the vessel to land headed and gutted fish caught within the NAFO Regulatory Area that are below the domestic minimum size due to the dressed condition of the fish. Each trip taken under this EFP are subject to the requirements outlined in this notice and any other condition specified by the National Marine Fisheries Service. If this EFP request is approved, it would be available to the other vessel authorized to participate in the NAFO yellowtail flounder fishery, if the other vessel owner makes such a request and it is approved.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: September 19, 2018.
Margo B. Schulze-Haugen,
Acting Director, Office of Sustainable Fisheries, National Marine Fisheries Service.

[FR Doc. 2018-20718 Filed 9-21-18; 8:45 am]

BILLING CODE 3510-22-P